DEPARTMENT OF ENERGY

Federal Energy Regulatory Commission

[Docket No. EL18-45-000]

Great River Energy; Notice of Institution of Section 206 Proceeding

On January 5, 2018, the Commission issued an order in Docket No. EL18-45-000, pursuant to section 206 of the Federal Power Act, 16 U.S.C. 824e (2012), instituting an investigation into whether Great River Energy's cost-based revenue requirements for providing reactive power from certain of its generating units located in the Midcontinent Independent System Operator, Inc. region may be unjust and unreasonable. Great River Energy, 162 FERC 61,006 (2018).

Any interested person desiring to be heard in Docket No. EL18-45-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: January 5, 2018.
Nathaniel J. Davis, Sr.,
Deputy Secretary.

[FR Doc. 2018-00327 Filed 1-10-18; 8:45 am]

BILLING CODE 6717-01-P